DEPARTMENT OF THE INTERIOR

Bureau of Land Management

[LLNVL00000.L51010000.ER0000.LVRWF12F3450 241A; N-78803; 12-08807; MO# 4500034975; TAS: 14X5017]

Notice of Availability of the Final Environmental Impact Statement, Including a Programmatic Agreement, for the Clark, Lincoln, and White Pine Counties Groundwater Development Project, Nevada

AGENCY: Bureau of Land Management, Interior.

ACTION: Notice of availability.

SUMMARY: In accordance with the National Environmental Policy Act (NEPA) of 1969, as amended, and the National Historic Preservation Act of 1966 (NHPA), as amended, the Bureau of Land Management (BLM) has prepared a Final Environmental Impact Statement (EIS) and a Programmatic Agreement (PA), which is included as an Appendix to the EIS, for the Southern Nevada Water Authority's (SNWA) Clark, Lincoln, and White Pine Counties Groundwater Development Project (SNWA Project), and by this notice is announcing the availability of the Final EIS.

DATES: The Department of the Interior will not issue a final decision on the proposal for a minimum of 60 days after the date that the Environmental Protection Agency publishes its Notice of Availability of the Final EIS in the Federal Register.

ADDRESSES: The Final EIS will be mailed to those parties who participated in the process. Written requests for a copy of the Final EIS or the PA for the SNWA Project may be submitted to the BLM at the address below or by any of the following methods:

• Email: nvgwprojects@blm.gov.

• Download the document from the BLM's Web site at www.blm.gov/5w5c.

• Fax: 775-861-6689.

• Mail: SNWA Project, Bureau of Land Management, Attn: Penny Woods, 1340 Financial Blvd., Reno NV 89502.

Review copies are available in the following locations:

BLM Offices in Nevada:

Nevada State Office, 1340 Financial Blvd., Reno

Ely District Office, 702 N. Industrial Way, Ely

Caliente Field Office, U.S. Hwy. 93, Building #1, Caliente

Southern Nevada District Office, 4701 N. Torrey Pines Drive, Las Vegas

Libraries in Nevada:

Nevada State Library, 100 N. Stewart St., Carson City

White Pine County Library, 950 Campton St., Ely

Lincoln County Library, 100 Depot Ave., Caliente

Lincoln County Library, 100 N. First St. E., Alamo

Mesquite Library, 121 W. First N. St., Mesquite

Clark County Library, 1401 E. Flamingo Road, Las Vegas

BLM Offices in Utah:

Utah State Office, 440 W. 200 S., Salt Lake City

West Desert District Office, 2370 S. 2300 W., Salt Lake City

Color Country District Office, 1760 East DL Sargent Drive, Cedar City

Fillmore Field Office, 35 E. 500 N., Fillmore

St George Field Office, 345 E. Riverside Drive, St. George

Libraries in Utah:

Utah State Library, 250 N. 1950 W., Salt Lake City

Delta City Library, 76 N. 200 W., Delta

Cedar City Library, 303 N. 100 E., Cedar City

Washington County Library, 88 W. 100 S., St. George

Tooele City Library, 128 W. Vine St., Tooele

Nephi Library, 21 E. 100 N., Nephi

Beaver Library, 55 W. Center St., Beaver

FOR FURTHER INFORMATION CONTACT: Penny Woods, Project Manager, telephone: 775-861-6466; address: 1340 Financial Blvd., Reno, NV 89502; email; pwoods@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The BLM served as the lead agency for the preparation of this EIS. The BLM worked with 16 cooperating agencies including: Federal—Fish and Wildlife Service, Bureau of Reclamation, Bureau of Indian Affairs, National Park Service, Forest Service, Army Corps of Engineers, U.S. Air Force-Nellis Air Force Base; State—Nevada Department of Wildlife, State of Utah; Counties and County Organizations—Central Nevada Regional Water Authority, White Pine, Lincoln, and Clark counties (NV); and Juab, Millard, and Tooele counties (UT).

The Final EIS describes and analyzes the SNWA's rights-of-way (ROWs) on public land for the SNWA Project. Project components include a system of groundwater conveyance and treatment facilities in southeastern Nevada which would transport groundwater from Spring, Delamar, Dry Lake, and Cave valleys pursuant to water rights permits issued by the Nevada State Engineer (NSE) and from Snake Valley pursuant to water right applications that are currently pending before the NSE. The Final EIS addresses the ROW request as submitted by the SNWA; alternative alignments of pipelines, power lines, and other ancillary facilities; alternative pumping locations/scenarios; and a no action alternative. The Final EIS also analyzes, conceptually, future facilities such as placement of water wells, collector pipelines and groundwater pumping.

A PA has been prepared pursuant to the regulations of the Advisory Council on Historic Preservation (ACHP) to comply with section 106 of the NHPA and the implementing regulations at 36 CFR part 800. The executed PA was signed by the BLM, the Nevada State Historic Preservation Officer (SHPO), the ACHP and the SNWA, and negotiated with other consulting parties through consultation. The terms of the executed PA set forth the conditions for satisfying the SNWA's obligations for the proposed project under section 106 of the NHPA.

The exact amount of groundwater available to the proposed project is dependent upon future action by the NSE. The EIS and ROW application are not for the purpose of supporting the permitting of water rights or authorizing of such rights. The NSE is solely responsible for granting water rights.

Between the Draft EIS and the Final EIS one alternative—Alternative F—was developed in response to public comments, input from the applicant, and the agency's need to analyze a broader range of alternatives. Alternatives considered in the Final EIS include:

Proposed Action—Distributed Pumping at 1989 Application Quantities: This alternative requires ROWs for a main pipeline of up to 96 inches in diameter, lateral pipelines, and associated ancillary facilities. This alternative considers conveyance of the full quantity of SNWA's water rights applications in Spring, Snake, Cave, Dry Lake, and Delamar valleys. Under this alternative, groundwater wells would be distributed across five hydrologic basins. Under the proposed action, the SNWA could be granted a ROW that would permit the development and operation of a system of regional water facilities that could be used to convey up to 217,655 acre-feet per year (afy) of groundwater, including 184,655 afy of the SNWA groundwater rights (if permitted by the NSE) with the remaining capacity reserved for future use by Lincoln County.

The proposed ROW project would include approximately 306 miles of a buried water pipeline between 16 and 84 inches in diameter; approximately 323 miles of 230 kilovolt (kV), 69 kV and 25 kV overhead power lines; two primary electrical substations, five secondary substations, three pressure-reducing facilities; five pumping stations; six regulating tanks; a 40-million-gallon buried storage reservoir; a 165 million-gallon-per-day water treatment facility; and associated access roads.

Alternative A—Distributed Pumping at Reduced Quantities. This alternative requires ROWs for a main pipeline of up to 96 inches in diameter, lateral pipelines, and associated ancillary facilities. This alternative considers conveyance of less than the full quantity of SNWA's applications in Spring, Cave, Dry Lake, and Delamar valleys and an assumed quantity of 36,000 afy of new groundwater rights in Snake Valley.

Alternative B—Points of Diversion Pumping at Application Quantities. This alternative requires ROWs for a main pipeline of up to 96 inches in diameter, lateral pipelines, and associated ancillary facilities. Alternative B would develop and convey the same groundwater volume as the Proposed Action. However, groundwater would be developed within a 1-mile radius of the 34 application Points of Diversion locations.

Alternative C—Intermittent Pumping at Reduced Quantities. This alternative requires ROWs for a main pipeline of up to 96 inches in diameter, lateral pipelines, and associated ancillary facilities. The development pattern for this alternative would be the same as Alternative A. However, a lower overall volume of groundwater would be pumped over time as compared to any of the other alternatives.

Alternative D—Distributed Pumping at Reduced Quantities in Lincoln County Only. The pipeline and groundwater development for this alternative is limited to Clark and Lincoln counties; no facilities would be constructed in White Pine County. This alternative requires ROWs for a main pipeline of up to 78 inches in diameter, lateral pipelines, and associated ancillary facilities. Groundwater development considerations would be the same as that analyzed under Alternative A without the Snake Valley and the White-Pine-County portion of Spring Valley groundwater amounts.

Alternative E—Distributed Pumping at Reduced Quantities—Spring, Cave, Dry Lake, and Delamar valleys. The pipeline and groundwater development for this alternative is limited to four groundwater development basins (Spring, Cave, Dry Lake, and Delamar valleys), with no facilities extending into Snake Valley, and no groundwater development occurring there. This alternative requires ROWs for a main pipeline of up to 78 inches in diameter, lateral pipelines, and associated ancillary facilities.

Alternative F—Distributed Pumping at Perennial Yield Quantities—Spring, Cave, Dry Lake, and Delamar valleys. Alternative F would not include groundwater development in Snake Valley. This alternative includes development of the unappropriated groundwater resources in Spring, Cave, Dry Lake, and Delamar valleys. This alternative considers the perennial yield amount for each of these basins, less existing committed groundwater rights, and up to the maximum of the SNWA groundwater application quantity.

No-Action Alternative—Pursuant to the Southern Nevada Public Lands Management Act of 1998 and the Lincoln County Conservation, Recreation, and Development Act of 2004, the BLM must grant the SNWA's ROW requests in Clark County and Lincoln County. However, the No-Action Alternative in this Final EIS describes baseline conditions without construction of the SNWA Project, as a benchmark for the comparison of the Proposed Action and alternatives.

Route Alternatives. Alignment Options 1 through 4 were also analyzed in the Final EIS. They include local-scale option locations for certain facilities (pipelines, power lines): Alignment Option 1—Humboldt-Toiyabe Power Line Alignment—In this option, the Humboldt-Toiyabe 230-kV power line would parallel an existing transmission line over the Schell Creek Range between the Gonder Substation and Spring Valley.

Alignment Option 2—North Lake Valley Pipeline and Power Line Alignments—This option would change the location of the mainline pipeline and associated power line in North Lake Valley.

Alignment Option 3—Muleshoe Substation and Power Line Alignment—This option depends on the implementation of at least one major regional power line project in the SNWA Project area.

Alignment Option 4—North Delamar Valley Pipeline Alignment—This option would be the same as the Proposed Action, except that the pipeline and power line in northern Delamar Valley would follow the same alignment along Poleline Road.

Agency Preferred Alternative. In selecting the preferred alternative, the BLM considered all information that has been received consistent with its environmental review, ROW permitting responsibilities, and the NSE's jurisdiction over the SNWA's groundwater applications. The preferred alternative is the main conveyance pipeline alignment contained in Alternative F as described in the Final EIS which does not include development in Snake Valley and would be limited to water volumes approved by the NSE. In addition, Alignment Option 1—Humboldt-Toiyabe Power Line Alignment would be selected in combination with the main conveyance pipeline alignment described in Alternative F. Mitigation and monitoring identified in Chapter 3 and other sections of the Final EIS may be included as part of future decisions.

Alternative F was not included in the Draft EIS but was developed in response to public and applicant comments and the agency's desire to provide a more comprehensive analysis of the range of alternatives. Alternative E (no development in Snake Valley) was in the Draft EIS and received numerous public and agency comments noting the probable reduction in impacts in close proximity to Great Basin National Park.

In addition, the environmental benefits include the construction of conveyance facilities within a designated BLM utility corridor and/or adjacent to existing BLM-granted ROWs to limit the fragmentation of habitat and natural features and the transportation of future-developed water from Spring, Delamar, Cave and Dry Lake valleys in the most direct route that is technologically advantageous for the transport, delivery, and operation of the system. Alignment Option 1—the Humboldt-Toiyabe Powerline Alignment—would lessen impacts to the sagebrush habitat and the related species dependent upon that habitat (i.e. sage grouse, pygmy rabbits, migratory birds, etc.) and maintain the proposed power line within an existing utility corridor.

To understand the impacts of the Preferred Alternative, one should consider the impacts of Alternatives E and F and understand that the preferred Alternative's impacts would be between the two. The amount of groundwater development analyzed in Alternative F is greater than that allocated by the NSE. The amount of groundwater development analyzed in Alternative E is closer to that allocated by the NSE. Both alternatives analyze the same main conveyance pipeline alignment and differ only in the assessment of the possible groundwater to be developed.

This is the initial EIS in a tiered NEPA evaluation process. As described in Council on Environmental Quality Regulations, a tiered NEPA process can be used for Proposed Actions such as the SNWA Project when specific locations have not been defined for all phases. Under NEPA, tiering involves a two-fold approach wherein general analyses are first covered in a broad EIS and more detailed issues are tiered (referenced) to that broader EIS. Once the broader EIS is completed, subsequent narrower statements or environmental assessments incorporate the general discussions from the broader EIS by reference, allowing the subsequent document to concentrate on the issues specific to the project or project phase. The NEPA regulations encourage Federal agencies to tier environmental documents for multi-stage projects to eliminate repetitive discussions of the same issues and to focus on the issues that are ready for decision at each level of environmental review.

The BLM conducted scoping in two periods: April 8 to August 1, 2005 and July 19 to October 18, 2006. The BLM received a total of 1,210 substantive letters during scoping. Key issues identified by individuals, groups and governmental entities include water supply and use, competing or conflicting land uses, and cumulative impacts and connected actions.

On June 10, 2011 the BLM published a Notice of Availability of the Draft EIS in the Federal Register (76 FR 34097) as did the EPA (76 FR 34072), which started a 90-day comment period. The Draft EIS 90-day public review and initial comment period ran from June 10 through September 9, 2011. The comment period was extended by 30 days and terminated on October 11, 2011. During the Draft EIS public comment period, the Nevada State Office received approximately 20,500 comment letters and emails from Federal agencies, State and local governments, Indian tribes, interested groups, and the public.

The majority of the concerns that were raised by Federal and state agencies, local and tribal governments, interested groups, and the public on the Draft EIS were focused on impacts to cultural resources, air quality, water resources, water dependent biological resources, human resources both within the area of development and in Las Vegas, wildlife, monitoring/mitigation of the project and cumulative impacts from the long-term development of the resources.

Authority: 40 CFR 1506.6, 40 CFR 1506.10.

Amy Lueders,
Nevada State Director.

[FR Doc. 2012-19148 Filed 8-2-12; 8:45 am]

BILLING CODE 4310-HC-P